DEPARTMENT OF ENERGY

Federal Energy Regulatory Commission

[Docket No. RP02-356-000]

Canyon Creek Compression Company; Notice of Further Technical Conference

September 26, 2002.

In the Commission's order issued on June 27, 2002,¹ the Commission directed that a technical conference be held to address issues raised by the filing.

¹ Canyon Creek Compression Company, 99 FERC ¶61,351 (2002).

Take notice that a further telephone conference will be held on Tuesday, October 8, 2002, at 10 a.m.

Parties will be sent instruction on how to join the telephone conference.

Linwood A. Watson, Jr.,
Deputy Secretary.

[FR Doc. 02-25027 Filed 10-1-02; 8:45 am]

BILLING CODE 6717-01-P